DEPARTMENT OF ENERGY

Federal Energy Regulatory Commission

[Docket Nos. CP17-458-000; PF17-3-000]

Midship Pipeline Company, LLC; Notice of Application

Take notice that on May 31, 2017, Midship Pipeline Company, LLC (Midship), 700 Milam Street, Suite 1900, Houston, TX 77002, filed in Docket No. CP17-458-000, an application, pursuant to Section 7(c) of the Natural Gas Act (NGA) and Parts 157 and 284 of the Commission's regulations requesting authorization to construct, own and operate a new 199.4-mile natural gas pipeline system (Midcontinent Supply Header Interstate Pipeline Project or Midship Project). The project also includes three new mainline compressor stations and one lateral booster station rated for a total of 118,440 horsepower (hp), metering and regulating stations, and appurtenant facilities with a total system capacity of 1,440 MMcf/d. The project will also include 20.3 miles of 30-inch diameter pipeline lateral in Kingfisher County, Oklahoma, and 13.6 miles of 16-inch diameter pipeline lateral in Stephens, Carter, and Garvin Counties Oklahoma. The proposed project will provide firm transportation capacity from the South Central Oklahoma Oil Province (SCOOP) and the Sooner Trend Anadarko Basin Canadian and Kingfisher (STACK) plays in the Anadarko Basin in Oklahoma to existing natural gas pipelines near Bennington, Oklahoma for transport to growing Gulf Coast and Southeast markets.

Midship also requests a blanket certificate pursuant to Part 157, Subpart F of the Commission's regulations, authorizing Midship to construct and operate certain facilities as described in Part 157, Subpart F, and a blanket certificate pursuant to Part 284, Subpart G of the Commission's regulations, authorizing Midship to provide open access firm and interruptible interstate natural gas transportation and parking and lending services on a self-implementing basis, all as more fully set forth in the application which is on file with the Commission and open to public inspection. This filing may also be viewed on the Commission's Web site at http://www.ferc.gov using the “eLibrary” link. Enter the docket number, excluding the last three digits, in the docket number field to access the document. For assistance, call (866) 208-3676 or TTY, (202) 502-8659.

Any questions regarding this application should be directed to Karri Mahmoud, Director, Regulatory Project Development, 700 Milam Street, Suite 1900, Houston, Texas 77002, or by calling (713) 375-5000 (telephone), karri.mahmoud@cheniere.com.

On November 9, 2016, the Commission staff granted Midship's request to utilize the National Environmental Policy Act (NEPA) Pre-Filing Process and assigned Docket No. PF17-3-000 to staff activities involving the project. Now, as of the filing of this application on May 31, 2017, the NEPA Pre-Filing Process for this project has ended. From this time forward, this proceeding will be conducted in Docket No. CP17-458-000, as noted in the caption of this Notice.

Pursuant to Section 157.9 of the Commission's rules (18 CFR 157.9), within 90 days of this Notice, the Commission staff will issue a Notice of Schedule for Environmental Review. If a Notice of Schedule for Environmental Review is issued, it will indicate, among other milestones, the anticipated date for the Commission staff's issuance of the final environmental impact statement (FEIS) for this proposal. The issuance of a Notice of Schedule for Environmental Review will serve to notify federal and state agencies of the timing for the completion of all necessary reviews, and the subsequent need to complete all federal authorizations within 90 days of the date of issuance of the Commission staff's FEIS.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a) (1) (iii) and the instructions on the Commission's Web site under the “e-Filing” link. The Commission strongly encourages electronic filings.

Comment Date: 5:00 p.m. Eastern Time on July 5, 2017.

Dated: June 14, 2017.
Kimberly D. Bose,
Secretary.

[FR Doc. 2017-12862 Filed 6-20-17; 8:45 am]

BILLING CODE 6717-01-P